DEPARTMENT OF TRANSPORTATION

Federal Aviation Administration

14 CFR Part 39

[Docket No. FAA-2007-27628; Directorate Identifier 2007-CE-025-AD; Amendment 39-15011; AD 2007-07-06]

RIN 2120-AA64

Airworthiness Directives; Columbia Aircraft Manufacturing (Previously the Lancair Company) Models LC40-550FG, LC41-550FG, and LC42-550FG Airplanes

AGENCY: Federal Aviation Administration (FAA), DOT.

ACTION: Final rule; request for comments.

SUMMARY: The FAA is adopting a new airworthiness directive (AD) for Columbia Aircraft Manufacturing (previously The Lancair Company) Models LC40-550FG, LC41-550FG, and LC42-550FG airplanes. This AD requires you to add information to the Limitations section of the Airplane Flight Manual (AFM). This AD also requires you to repetitively inspect the aileron and the elevator linear bearings and control rods for foreign object debris, scarring, or damage and take all necessary corrective actions. This AD results from reports of possible foreign object contamination of the linear bearings. We are issuing this AD to prevent jamming in the aileron and elevator control systems, which could result in failure. This failure could lead to loss of control.

DATES: This AD becomes effective on April 9, 2007.

On April 9, 2007 the Director of the Federal Register approved the incorporation by reference of certain publications listed in this AD.

We must receive any comments on this AD by June 4, 2007.

ADDRESSES: Use one of the following addresses to comment on this AD.

• DOT Docket Web site: Go to http://dms.dot.gov and follow the instructions for sending your comments electronically.

• Mail: Docket Management Facility, U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: Go to http://www.regulations.gov. Follow the instructions for submitting comments.

To get the service information identified in this AD, contact Columbia Aircraft Manufacturing Corp., 22550 Nelson Road, Bend, Oregon 97701; telephone: (888) 599-8660; e-mail: Product.Support@FlyColumbia.com.

To view the comments to this AD, go to http://dms.dot.gov. The docket number is FAA-2007-27628; Directorate Identifier 2007-CE-025-AD.

FOR FURTHER INFORMATION CONTACT: Jeff Morfitt, Aerospace Engineer, FAA, Seattle Aircraft Certification Office, 1601 Lind Avenue, SW., Renton, WA 98057; telephone: (425) 917-6405; fax: (425) 917-6590.

SUPPLEMENTARY INFORMATION:

Discussion

We received a report of an incident involving a pilot flying a Model LC41-550FG airplane. The pilot experienced a roll (aileron) system control jam, which prevented him from rolling the airplane in one direction. Investigation revealed the cause of the problem to be foreign material lodged in a linear bearing (part number LA57272500), which supports a push-pull tube in the aileron control system.

This same bearing is used in two places (left and right) in the aileron control system and four places (two left and two right) in the elevator control system. The foreign material (hardened pieces of adhesive material), which was apparently present at the time of airplane delivery, randomly lodged in the linear bearing after approximately 200 flight hours. This shows that potential exists for similar events to occur at any time if foreign material is present near one of these bearings.

The internal control systems are identical for all three airplane models affected by this AD. Jamming or roughness in the control systems also interferes with the proper functioning of the autopilot.

This condition, if not corrected, could result in jamming of the aileron and elevator control systems, which could result in loss of control.

Relevant Service Information

We reviewed Columbia Mandatory Service Bulletin SB-07-002, dated March 14, 2007. The service information describes procedures for adding information to the “Before Starting Engine” checklist and inspecting the aileron and the elevator linear bearings and control rods for foreign object debris, scarring, or damage.

FAA's Determination and Requirements of This AD

We are issuing this AD because we evaluated all the information and determined the unsafe condition described previously is likely to exist or develop on other products of the same type design. This AD requires adding information to the Limitations section of the AFM. This AD also requires you to repetitively inspect the aileron and the elevator linear bearings and control rods for foreign object debris, scarring, or damage and take all necessary corrective actions.

In preparing this rule, we contacted type clubs and aircraft operators to get technical information and information on operational and economic impacts. We did not receive any information through these contacts. If received, we would have included a discussion of any information that may have influenced this action in the rulemaking docket.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2007-27628; Directorate Identifier 2007-CE-025-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2007-07-06 Columbia Aircraft Manufacturing (Previously The Lancair Company): Amendment 39-15011; Docket No. FAA-2007-27628; Directorate Identifier 2007-CE-025-AD.

Effective Date

(a) This AD becomes effective on April 9, 2007.

Affected ADs

(b) None.

Applicability

(c) This AD applies to the following airplane models and serial numbers that are certificated in any category:

Model | Serial No.
LC40-550FG | 40001 through 40079.
LC41-550FG | 41001 and up.
LC42-550FG | 42001 and up.

Unsafe Condition

(d) This AD is the result of reports of possible foreign object contamination of the linear bearings. We are issuing this AD to prevent jamming in the aileron and elevator control systems, which could result in failure. This failure could lead to loss of control.

Compliance

(e) To address this problem, you must do the following, unless already done:

Actions | Compliance | Procedures
(1) Insert Appendix A of Columbia Mandatory Service Bulletin SB-07-002, dated March 14, 2007, into the Limitations section of the Airplane Flight Manual (AFM) | Before further flight after April 9, 2007 (the effective date of this AD) | The owner/operator holding at least a private pilot certificate as authorized by section 43.7 of the Federal Aviation Regulations (14 CFR 43.7) may do the AFM insertion requirement of this AD. Make an entry in the aircraft records showing compliance with this portion of the AD following section 43.9 of the Federal Aviation Regulations (14 CFR 43.9).
(2) Access and inspect the aileron and elevator linear bearings on both wings for foreign object debris | Initially inspect within the next 35 hours time-in-service (TIS) after April 9, 2007 (the effective date of this AD). Repetitively inspect thereafter at intervals not to exceed 12 calendar months | Following Columbia Mandatory Service Bulletin SB-07-002, dated March 14, 2007, and the applicable maintenance manual.
(3) Remove any debris found during any inspection required in paragraph (e)(2) of this AD | Remove any debris before further flight after the inspection in which the debris is found | Following Columbia Mandatory Service Bulletin SB-07-002, dated March 14, 2007, and the applicable maintenance manual.
(4) Inspect the aileron and elevator control rods for scarring or damage near the linear bearings | Initially inspect within the next 35 hours TIS after April 9, 2007 (the effective date of this AD). Repetitively inspect thereafter at intervals not to exceed 12 calendar months | Following Columbia Mandatory Service Bulletin SB-07-002, dated March 14, 2007, and the applicable maintenance manual.
(5) Contact the manufacturer at the address specified in paragraph (g)(2) of this AD for a repair scheme if any scarring or damage is found during any inspection required in paragraph (e)(4) of this AD | Make all repairs before further flight after the inspection in which scarring or damage is found | Following Columbia Mandatory Service Bulletin SB-07-002, dated March 14, 2007, and the applicable maintenance manual.

Alternative Methods of Compliance (AMOCs)

(f) The Manager, Seattle Aircraft Certification Office (ACO), FAA, ATTN: Jeff Morfitt, Aerospace Engineer, 1601 Lind Avenue SW., Renton, WA 98057; telephone: (425) 917-6405; fax: (425) 917-6590, has the authority to approve AMOCs for this AD, if requested using the procedures found in 14 CFR 39.19. Before using any approved AMOC on any airplane to which the AMOC applies, notify your appropriate principal inspector (PI) in the FAA Flight Standards District Office (FSDO), or lacking a PI, your local FSDO.

Material Incorporated by Reference

(g) You must use Columbia Mandatory Service Bulletin SB-07-002, dated March 14, 2007, to do the actions required by this AD, unless the AD specifies otherwise.

(1) The Director of the Federal Register approved the incorporation by reference of this service information under 5 U.S.C. 552(a) and 1 CFR part 51.

(2) For service information identified in this AD, contact Columbia Aircraft Manufacturing Corp., 22550 Nelson Road, Bend, Oregon 97701; telephone: (888) 599-8660; e-mail: Product.Support@FlyColumbia.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on March 27, 2007.
Kim Smith,
Manager, Small Airplane Directorate, Aircraft Certification Service.

[FR Doc. E7-6011 Filed 4-2-07; 8:45 am]

BILLING CODE 4910-13-P